DEPARTMENT OF THE INTERIOR

National Park Service

National Register of Historic Places; Notification of Pending Nominations and Related Actions

Nominations for the following properties being considered for listing or related actions in the National Register were received by the National Park Service before December 24, 2005. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by January 26, 2006.

John W. Roberts,
Acting Chief, National Register/National Historic Landmarks Program.

ARIZONA

Navajo County

Bailey Ruin, Address Restricted, Pinedale, 05001560

ARKANSAS

Chicot County

Chicot County Courthouse, 108 Main St., Lake Village, 05001592

Clark County

Arkansas 7/51 Bridge, (Arkansas Highway History and Architecture MPS) AR 7/51, Arkadelphia, 05001591

Garland County

Army and Navy Hospital, 105,200,417,421 and 425 Reserve Ave., Hot Springs, 05001590

COLORADO

Alamosa County

Howard Store, 8681 Main St., Hooper, 05001597

Douglas County

Franktown Cave, Address Restricted, Franktown, 05001561

GEORGIA

Clarke County

Coca-Cola Bottling Plant—Athens, 297 Prince Ave., Athens, 05001594

Cobb County

Butner—Mctyre General Store, 4455 Marietta St., Powder Springs, 05001593

Fulton County

Tyler, Mary Elizabeth, House, 2887 Howell Mill Rd., Atlanta, 05001598

Lee County

Leesburg High School, 100 Starkville Ave., Leesburg, 05001595

Troup County

West Point Commercial Historic District, Roughly bounded by 4th Ave., 2nd Ave., W. 9th St., and W. 7th St., West Point, 05001596

IDAHO

Ada County

Bell, R.H. and Jessie, House, 137 E. Pine St., Meridian, 05001599

Hill, Clara, House, 1123 N. Main St., Meridian, 05001600

Custer County

Idaho Mining and Smelter Company Store, One Ford St., Clayton, 05001601

ILLINOIS

Cook County

Homestead, The, 1625 Hinman Ave., Evanston, 05001607

Maverick Lloyd, Lola, House, 455 Birch St., Winnetka, 05001606

North Mayfair Bungalow Historic District, (Chicago Bungalows MPS) Roughly bounded by W. Foster Ave., N. Pulaski Rd., N. Kilbourn Ave., and W. Lawrence Ave., Chicago, 05001608

Pilsen Historic District, Roughly bounded by W. 16th St., W. Cermak Rd., S. Halsted St. and S. Western Ave., Chicago, 05001609

Grundy County

Morris Downtown Commercial Historic District, Liberty St., roughly bounded by the RR, Illinois St., Fulton and Wauponsee Sts and Franklin, Morris, 05001603

Henry County

Kewanee Hotel, 125 N. Chestnut, Kewanee, 05001605

Jackson County

Hull, William H., House, 1517 Walnut, Murphysboro, 05001602

Warren County

Monmouth Courthouse Commercial Historic District, Roughly bounded by Archer Ave., First St., Second Ave. and A St., Monmouth, 05001604

MAINE

Cumberland County

Abyssinian Meeting House, 73-75 Newbury St., Portland, 05001612

MINNESOTA

Lake County

Isabella Ranger Station, Address Restricted, Isabella, 05001611

MISSISSIPPI

Warren County

Grove Street—Jackson Historic District, (Vicksburg MPS) Along Grove and Jackson Sts. bet. Cherry St. and First N. St., Vicksburg, 05001613

MISSOURI

Cape Girardeau County

Jackson Uptown Commercial Historic District, Roughly bounded by Court, Main, Missouir and High Sts., Jackson, 05001562

Jackson County

Park Manor Historic District, 910 Ward Pkwy, 920 Ward Pkwy. and 4826 Roanoke Pkwy, Kansas City, 05001610

NEW JERSEY

Bergen County

Presbyterian Church of Norwood, 701 Broadway, Norwood Borough, 05001567

Hudson County

First Baptist Church, 901-907 Bloomfield St., Hoboken, 05001570

Hunterdon County

Eversole, Charles, House, 509 Cty Rd. 523, Readington Township, 05001563

Mercer County

Pearson, Isaac, House, Hobson Ave. at Emiline Ave., Hamilton Township, 05001568

Monmouth County

Probasco-Dittner Farmstead, 61 Bucks Mill Rd., Colts Neck, 05001564

Morris County

Miller-Rinehard Farmstead, 72 Hacklebarney Rd., Washington Township, 05001569

Ocean County

Bay Head Historic District, Roughly bounded by Point Pleasant Beach Borough line, Atlantic Ocean, Manotoloking Borough line and Point Pleasant, Bay Head Borough, 05001566

Union County

Reeve, William Edgar, House, 314 Mountain Ave., Westfield Town, 05001565

NEW YORK

Columbia County

Linlithgo Reformed Church of Livingston, 447 Church Rd., Livingston, 05001614

Delaware County

First Presbyterian Church, Clinton St., Delhi, 05001616

Livingston County

Kellerman Log Cabin, 6074 S. Livonia Rd., Conesus, 05001615

OHIO

Cuyahoga County

Brownell School and Annex, 1300-1360 Sumner St., Cleveland, 05001576

Federal Knitting Mills (Boundary Increase), 2820, 2811-21 Vermont Ave., Cleveland, 05001575

Old River Road Historic District, 1220-1330 Old River Rd., Cleveland, 05001574

Tuscarawas County

Dennison High School, 220 N. Third St., Dennison, 05001573

RHODE ISLAND

Newport County

Farnham Farm, 113 Mount Pleasant Ave., Portsmouth, 05001617

SOUTH CAROLINA

Kershaw County

Belmont Neck Site—38KE06, Address Restricted, Camden, 05001578

Newberry County

Howard Junior High School, 431 Shiloh St., Prosperity, 05001577

Richland County

Woodlands, 409 Old Woodlands Rd., Columbia, 05001572

Spartanburg County

Pacolet Mills Cloth Room and Warehouse, 1560 Sunny Acres Rd., Pacolet, 05001571

UTAH

Davis County

Smith, Thomas J. and Amanda N., House, 472 N. Main St., Kaysville, 05001632

Salt Lake County

Smith, Lauritz H. and Emma, House, (Draper, Utah MPS) 12423 S. Relation St., Draper, 05001633

Walbeck, Glen M. and Roxie, House, (Draper, Utah MPS) 12875 S. Boulter St., Draper, 05001630

Tooele County

Anderson-Clark Farmstead, (Grantsville, Utah MPS) 378 W. Clark St., Grantsville, 05001627

Erickson, Hilda, House, (Grantsville, Utah MPS) 247 W. Main St., Grantsville, 05001626

Johnson Hall—Deseret Mercantile Building, (Grantsville, Utah MPS) 4 W. Main St., Gransville, 05001628

Wrathall, James and Penninah, House, (Grantsville, Utah MPS) 5 N. Center St., Grantsville, 05001629

VERMONT

Caledonia County

District 6 School House, (Educational Resources of Vermont MPS) 73 Cemetery Circle, Lyndon, 05001588

Windsor County

Gould's Mill Bridge, VT 66, Paddock Rd. over the Black River, Springfield, 05001589

VIRGINIA

Amherst County

Brick House, 854 Fletcher's Level Rd., Clifford, 05001620

Augusta County

Harper House, 3029 Stuarts Draft Hwy., Stuarts Draft, 05001623

Clarke County

Millwood Commercial Historic District, Parts of Millwood Rd. and Tannery Ln., Millwood, 05001624

Danville Independent City

Langhorne House, 117 Broad St., Danville (Independent City), 05001586

Fauquier County

Mount Hope, 6015 Georgetown Rd., New Baltimore, 05001625

Giles County

Walker's Creek Presbyterian Church (Boundary Increase), Walker's Creek Balley Rd., Pearisburg, 05001622

Goochland County

Second Union School, (Rosenwald Schools in Virginia MPS) 2787 Hadensville Fife Rd., Goochland, 05001583

VIRGINIA

Henry County

Bassett, John D., High School, VA 57, Bassett, 05001587

Highland County

Mansion House, VA 645, 161 Mansion House Rd., McDowell, 05001619

Loudoun County

Francis-Gulick Mill, Address Restricted, Leesburg, 05001582

Norfolk Independent City

Lambert's Point Knitting Mill (122-0934), 808 W. 44th St., Norfolk (Independent City), 05001585

Richmond Independent City

Gordon-Baughan-Warren House, 6303 Towana Rd., Richmond (Independent City), 05001621

Stafford County

Hartwood Manor, 335 Hartwood Rd., Harwood vicinity, 05001618

Suffolk Independent City

Cedar Hill Cemetery, S. of E. Constance Rd., Suffolk (Independent City), 05001584

Harrell, Joel E., Son, 110 Virginia Ham Dr., Suffolk (Independent City), 05001580

Wise County

Fulton, E.M., House, 103 W. Main St., Wise, 05001581

WISCONSIN

Fond Du Lac County

Zion Congregational Church, N4042 Amity Rd., Alto, 05001579

A request for removal has been made for the following resources:

ARKANSAS

Clark County

Cobb-Weber House, 307 N. 6th St. Arkadelphia, 02000956

Howard County

Neal, Noel Owen, House 184 Blue Bayou Rd. S. Nashville vicinity, 03000959

Pulaski County

Jones, Arthur J., House 814 Scott St. Little Rock, 76000456

[FR Doc. E6-132 Filed 1-10-06; 8:45 am]

BILLING CODE 4312-51-P